DEPARTMENT OF DEFENSE

Department of Army

Availability for Non-Exclusive, Exclusive, or partially Exclusive Licensing of U.S. Patent Application Concerning Teledentistry Consult Management System and Method

AGENCY: Department of the Army, DoD.

ACTION: Notice.

SUMMARY: In accordance with 37 CFR 404.6 and 404.7, announcement is made of the availability for licensing of U.S. Patent Application No. 10/159,984 entitled “Teledentistry Consult Management System and Method,” filed June 3, 2002. Foreign rights are also available (PCT/US02/17197). The United States Government, as represented by the Secretary of the Army, has rights in this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 6196664, both at telefax (301) 619-5034.

SUPPLEMENTARY INFORMATION: The invention relates generally to the field of telemedicine and, more particularly, to systems, methods and articles of manufacture for facilitating consultation/communication between referring and consulting providers in the field of dentistry.

Luz D. Ortiz,
Army Federal Register Liaison Officer.

[FR Doc. 02-31455 Filed 12-12-02; 8:45 am]

BILLING CODE 3710-08-M